DEPARTMENT OF COMMERCE

Foreign-Trade Zones Board

[B-53-2024]

Foreign-Trade Zone (FTZ) 196; Authorization of Production Activity; RECARO Aircraft Seating Americas, LLC; (Aircraft Seats); Fort Worth, Texas

On October 9, 2024, RECARO Aircraft Seating Americas, LLC submitted a notification of proposed production activity to the FTZ Board for its facility within FTZ 196, in Fort Worth, Texas.

The notification was processed in accordance with the regulations of the FTZ Board (15 CFR part 400), including notice in the Federal Register inviting public comment (89 FR 83635, October 17, 2024). On February 6, 2025, the applicant was notified of the FTZ Board's decision that no further review of the activity is warranted at this time. The production activity described in the notification was authorized, subject to the FTZ Act and the FTZ Board's regulations, including section 400.14.

Dated: February 6, 2025.
Elizabeth Whiteman,
Executive Secretary.

[FR Doc. 2025-02456 Filed 2-10-25; 8:45 am]

BILLING CODE 3510-DS-P